Proclamation 10982 of October 10, 2025

250th Anniversary of the Founding of the United States Navy

By the President of the United States of America

A Proclamation

Two hundred and fifty years ago, the rising tide of revolution surged from land to sea when the Second Continental Congress established what would ultimately become the United States Navy—the mightiest, most lethal, and most legendary maritime fighting force ever conceived. Today, we honor the Navy's epic role in safeguarding our sovereignty and projecting our power beyond our coasts. We salute the Navy's indispensable role throughout every chapter of our national story. Above all, we pay tribute to the generations of gallant Sailors who have fearlessly lived by those timeless words: Non sibi sed patriae—Not for self, but for country.

Nearly 6 months after the American Revolution erupted into open fire at the Battles of Lexington and Concord, the path to independence remained long and uncertain. Following King George III's rejection of the Olive Branch Petition—the American Colonies' final attempt to avoid full descent into war—it became clear that the Army alone would not be sufficient. Indeed, to protect their freedom of trade, defend their homes against invasion, and seize British supplies at sea, the American Colonies had no choice but to extend their righteous crusade for independence beyond their shores.

On October 13, 1775, in a radical and extraordinary act of self-determination, the Second Continental Congress passed a resolution to formally establish the Continental Navy.

Almost immediately, the Congress purchased ships and established a naval committee, which quickly took up its immortal place in history. In the 250 years since, our American story has been infused with seminal naval battles fought by legions of Sailors who safeguarded our liberty with unwavering grit. In every conflict—from our fight for independence, through two world wars, to battles in Korea, Vietnam, and the Persian Gulf—the Navy has secured our sovereignty at sea and heroically defended our birthright of freedom against every enemy, big or small.

In November 1781, just weeks after the Patriots' triumph over British forces at Yorktown, General George Washington penned a letter to a French military officer, in which he stated: “It follows then as certain as that night succeeds the day, that without a decisive naval force we can do nothing definitive, and with it, everything honorable and glorious.” On this 250th anniversary of the United States Navy, we reaffirm those mighty words. We salute the extraordinary devotion of our active duty and Reserve Sailors and the families who bear the sacrificial life of service with unmatched resilience and grace—and we pledge to keep our Navy, our country, and our inheritance of freedom alive and flourishing for generations to come. We will never give up the ship.

NOW, THEREFORE, I, DONALD J. TRUMP, President of the United States of America, by virtue of the authority vested in me by the Constitution and the laws of the United States, do hereby proclaim October 13, 2025, as a day to commemorate the founding of the United States Navy with appropriate ceremonies and programs. I call upon all Americans to honor the Navy's rich heritage, and the patriotism of all who have served.

IN WITNESS WHEREOF, I have hereunto set my hand this tenth day of October, in the year of our Lord two thousand twenty-five, and of the Independence of the United States of America the two hundred and fiftieth.

[FR Doc. 2025-19586

Filed 10-15-25; 11:15 am]

Billing code 3395-F4-P